DEPARTMENT OF TRANSPORTATION

Federal Aviation Administration

Notice Before Waiver With Respect to Land at Buffalo Niagara International Airport, Buffalo, New York

AGENCY: Federal Aviation Administration (FAA), DOT.

ACTION: Notice of intent of waiver with respect to land.

SUMMARY: The FAA is publishing notice of the proposed release of approximately 21 acres of land, also referred to as 455 Cayuga Road, at Buffalo Niagara Internatinal Airport for long term lease for non-aeronautical development. There are no impacts to the Airport and the land is not needed for airport development as shown on the Airport Layout Plan. Fair Market Value lease payments will be paid over a 40-year term to the Airport Sponsor, and used for capital development of the airport.

Any comments the agency receives will be considered as a part of the decision.

DATES: Comments must be received on or before January 4, 2001.

ADDRESSES: Comments on this application may be mailed or delivered in triplicate to the FAA at the following address: Philip Brito, Manager, FAA New York Airports District Office, 600 Old Country Road, Suite 446, Garden City, New York 11530.

In addition, one copy of any comments submitted to the FAA must be mailed or delivered to Mr. Lawrence Meckler, Executive Director, Niagara Frontier Transportation Authority, at the following address: Mr. Lawrence Meckler, Executive Director, Niagara Frontier Transportation Authority, 181 Ellicott Street, Buffalo, New York 14203.

FOR FURTHER INFORMATION CONTACT: Mr. Philip Brito, Manager, New York Airports District Office, 600 Old Country Road, Suite 446, Garden City, New York 11530; telephone (516) 227-3803; FAX (516) 227-3813; E-Mail Philip.Brito@faa.gov.

SUPPLEMENTARY INFORMATION: On April 5, 2000, new authorizing legislation became effective. That bill, the Weldell H. Ford Aviation Investment and Reform Act for the 21st Century, Pubic Law 10-181 (Apr. 5, 2000; 114 Stat. 61) (AIR 21) requires that a 30 day pubic notice must be provided before the Secretary may waive any condition imposed on an interest in surplus property.

Issued in Garden City, New York on October 3, 2000.
Philip Brito,
Manager, New York Airports District Office, Eastern Region.

[FR Doc. 00-30923 Filed 12-4-00; 8:45 am]

BILLING CODE 4910-13-M